FEDERAL COMMUNICATIONS COMMISSION

47 CFR Part 73

[DA 01-1296; MM Docket No. 01-113; RM-9655]

Radio Broadcasting Services; Big Piney and LaBarge, Wyoming

AGENCY: Federal Communications Commission.

ACTION: Proposed rule.

SUMMARY: The Commission requests comments on a petition for rule making filed by Mount Rushmore Broadcasting, Inc. (“petitioner”) requesting allotments at Big Piney and LaBarge, Wyoming. Channel 224A can be allotted at Big Piney without a site restriction and Channel 231A can be allotted at La Barge without a site restriction. The coordinates for Channel 224A at Big Piney are 42-32-24 NL and 110-06-42 WL. The coordinates for Channel 231A at LaBarge are 42-15-42 NL and 110-11-36 WL.

DATES: Comments must be filed on or before July 16, 2001, and reply comments on or before July 31, 2001.

ADDRESSES: Secretary, Federal Communications Commission, Washington, D.C. 20554. In addition to filing comments with the FCC, interested parties should serve the petitioner, as follows: Thomas J. Hutton, Holland and Knight, 2100 Pennsylvania Ave., N.W., Washington, DC 20037-5564 (Counsel to Petitioner).

FOR FURTHER INFORMATION CONTACT: Victoria M. McCauley, Mass Media Bureau, and (202) 418-2180.

SUPPLEMENTARY INFORMATION: This is a synopsis of the Commission's Notice of Proposed Rule Making, MM Docket No. 01-113 adopted May 16, 2001 and released May 25, 2001. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW., Washington, DC 20036.

Petitioner originally requested the allotment of Channel 259A at Big Piney, Wyoming, and Channel 261A at La Barge, Wyoming as a counterproposal to MM Docket No. 99-56. Consistent with the minimum distance separation requirements of § 73.207(b) and the principal community coverage requirements of § 73.315(a) of the Commission's Rules, neither channel can be allotted at the requested community. We determined that alternate channels could be allotted at both communities.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Wyoming, is amended by adding Big Piney, Channel 224A and LaBarge, Channel 231A.

Federal Communications Commission.
John A. Karousos,
Chief, Allocations Branch, Policy and Rules Division, Mass Media Bureau.

[FR Doc. 01-14804 Filed 6-11-01; 8:45 am]

BILLING CODE 6712-01-U